DEPARTMENT OF THE INTERIOR

Bureau of Land Management

[LLAKF00000.L51010000.ER0000.LVRWL22L0980.22X]

Notice of Intent To Prepare a Supplemental Environmental Impact Statement for the Proposed Ambler Mining District Industrial Access Road, Fairbanks, Alaska

AGENCY: Bureau of Land Management, Interior.

ACTION: Notice of intent to prepare a Supplemental Environmental Impact Statement.

SUMMARY: In compliance with the National Environmental Policy Act of 1969 (NEPA), as amended, the Federal Land Policy and Management Act of 1976 (FLPMA), as amended, and the Alaska National Interest Lands Conservation Act of 1980 (ANILCA), as amended, the Bureau of Land Management (BLM) intends to prepare a Supplemental Environmental Impact Statement (EIS) to consider the effects of Federal authorizations to construct and operate a 200+mile long industrial access road in the southern Brooks Range foothills of Alaska, terminating at the Ambler Mining District. By this notice BLM is announcing the beginning of the scoping process to solicit public comments and identify issues.

DATES: This notice initiates the public-scoping process for the Supplemental EIS. The BLM requests that the public submit comments concerning the scope of the analysis, potential alternatives, and identification of relevant information, and studies by November 4, 2022. To afford the BLM the opportunity to consider comments in the Draft Supplemental EIS, please ensure your comments are received prior to the close of the 45-day scoping period.

ADDRESSES: You may submit comments related to the Proposed Ambler Mining District Industrial Access Road by any of the following methods:

• Website: https://eplanning.blm.gov/eplanning-ui/project/57323/510.

• Email: BLM_AK_AKSO_AmblerRoad_Comments@blm.gov.

• Fax: (907) 271-5479.

• Mail: Ambler Road Scoping Comments, 222 West 7th Avenue, Stop #13, Anchorage, Alaska 99513.

Documents pertinent to this proposal may be examined online at https://eplanning.blm.gov/eplanning-ui/project/57323/510 and at the BLM Alaska Public Room, Fairbanks District Office, 222 University Avenue, Fairbanks, Alaska 99709; and at the BLM Alaska Public Information Center, Alaska State Office, 222 West 7th Avenue, Anchorage, Alaska 99513.

FOR FURTHER INFORMATION CONTACT: Wendy Huber, Planning and Environmental Specialist, telephone 907-271-3137; address 222 W 7th Ave. Stop #13, Anchorage, AK 99513; email whuber@blm.gov. Contact Ms. Huber to have your name added to our mailing list. Individuals in the United States who are deaf, deafblind, hard of hearing, or have a speech disability may dial 711 (TTY, TDD, or TeleBraille) to access telecommunications relay services for contacting Ms. Huber. Individuals outside the United States should use the relay services offered within their country to make international calls to the point-of-contact in the United States.

SUPPLEMENTARY INFORMATION: The Proposed Ambler Mining District Industrial Access Road was originally analyzed in the March 2020 Final EIS and authorized in a Record of Decision (ROD) issued in July 2020. Litigation commenced with suits from multiple parties in August and October 2020. In February 2022, the Department of the Interior requested the U.S. District Court for Alaska grant voluntary remand, stating that additional legal analysis had revealed deficiencies in the BLM's analysis of subsistence impacts under ANILCA Section 810 and consultation with tribes pursuant to Section 106 of the National Historic Preservation Act (NHPA). The Court granted that request in May 2022, returning the matter to BLM to correct the identified deficiencies. The BLM will prepare a Supplemental EIS to help address the identified deficiencies, and to ensure compliance with applicable law, including NEPA, FLPMA, NHPA, and ANILCA. The BLM's Supplemental EIS analysis will focus on more thoroughly assessing the impacts and resources related to the identified deficiencies to facilitate integrating its NEPA analysis with its ongoing ANILCA Section 810 and NHPA Section 106 processes. BLM is providing this opportunity for scoping to help determine which additional impacts and resources should be more thoroughly assessed.

If the BLM holds any public meetings, in-person or virtual, during this 45-day scoping period, specific date(s) and location(s) of meetings will be announced in advance on the project page at https://eplanning.blm.gov/eplanning-ui/project/57323/510. The BLM is seeking public comments on issues, concerns, potential impacts, alternatives, and mitigation measures that should be considered in the analysis. Additional opportunities for public participation, including at least a 45-day public comment period, will be provided upon publication of the Draft Supplemental EIS.

The input of Alaska Native Tribes and Corporations is of critical importance to this Supplemental EIS. Therefore, the BLM will continue to consult with potentially affected Federally recognized Tribes on a government-to-government basis, and with affected Alaska Native Corporations in accordance with Executive Order 13175 and Public Law 108-199, Div. H, sec. 161, 118 Stat. 452, as amended by Public Law 108-447, Div. H, sec. 518, 118 Stat. 3267, as well as other Department and Bureau policies. The BLM will hold individual consultation meetings upon request.

The BLM will also use and coordinate the NEPA process to help fulfill its obligations under the National Historic Preservation Act, including as provided in 36 CFR 800.2(d)(3). New information about historic and cultural resources within the area potentially affected by the proposed action will assist the BLM in identifying and evaluating impacts to such resources.

It is important that commenters provide their comments at such times and in such manner that they are useful to the agency's preparation of the Supplemental EIS. Therefore, comments should be provided prior to the close of the comment period and should clearly articulate the commenter's concerns and contentions. Comments received in response to this solicitation, including names and addresses of those who comment, will be part of the public record for this proposed action. Comments submitted anonymously will be accepted and considered.

Before including your address, phone number, email address, or other personal identifying information in your comment, you should be aware that your entire comment—including your personal identifying information—may be made publicly available at any time. While you can ask us in your comment to withhold your personal identifying information from public review, we cannot guarantee that we will be able to do so.

(Authority: 40 CFR 1506.6)

Erika Reed,
Acting Alaska State Director.

[FR Doc. 2022-20251 Filed 9-19-22; 8:45 am]

BILLING CODE 4310-JA-P